DEPARTMENT OF LABOR

Employment and Training Administration

[TA-W-82,568; TA-W-82,568A; TA-W-82,537B]

Homeward Residential, Inc., a Subsidiary of Ocwen Loan Servicing, LLC, Including On-Site Leased Workers From Staffmark Staffing, Including Workers Whose Unemployment Insurance (UI) Wages Are Reported Through American Mortgage Servicing, Inc., Coppell, Texas; Homeward Residential, Inc., a Subsidiary of Ocwen Loan Servicing, LLC, Including On-Site Leased Workers From Staffmark Staffing, Including Workers Whose Unemployment Insurance (UI) Wages Are Reported Through American Mortgage Servicing, Inc., Addison, Texas; Homeward Residential, Inc., a Subsidiary of Ocwen Loan Servicing, LLC, Including On-Site Leased Workers From Staffmark Staffing, Including Workers Whose Unemployment Insurance (UI) Wages Are Reported Through American Mortgage Servicing, Inc., Jacksonville, Florida; Amended Certification Regarding Eligibility To Apply for Worker Adjustment Assistance

In accordance with Section 223 of the Trade Act of 1974, as amended (“Act”), 19 U.S.C. 2273, the Department of Labor issued a Certification of Eligibility to Apply for Worker Adjustment Assistance on April 24, 2013, applicable to workers of Homeward Residential, Inc., a subsidiary of Ocwen Loan Servicing, LLC, including on-site leased workers from Staffmark Staffing, Coppell, Texas, Homeward Residential, Inc., a subsidiary of Ocwen Loan Servicing, LLC, including on-site leased workers from Staffmark Staffing, Addison, Texas and Homeward Residential, Inc., a subsidiary of Ocwen Loan Servicing, LLC, including on-site leased workers from Staffmark Staffing, Jacksonville, Florida. The workers supply mortgage servicing customer services. The notice was published in the Federal Register on May 15, 2013 (78 FR 28635).

At the request of the State agency, the Department reviewed the certification for workers of the subject firm. New information shows that Homeward Residential, Inc. was formerly known as American Home Mortgage Servicing, Inc. Workers separated from employment at the Coppell, Texas, Addison, Texas and Jacksonville, Florida locations of Homeward Residential, Inc., a subsidiary of Ocwen Loan Servicing, LLC had their wages reported through a separate unemployment insurance (UI) tax account under the name American Home Mortgage Servicing, Inc.

Accordingly, the Department is amended this certification to include workers of the subject firm whose unemployment insurance (UI) wages are reported through American Mortgage Servicing, Inc.

The intent of the Department's certification is to include all workers of the subject firm who were adversely affected by the acquisition of mortgage servicing customer services from India.

The amended notice applicable to TA-W-82,568, TA-W-82,568A and TA-W-82,568B are hereby issued as follows:

All workers from Homeward Residential, Inc., a subsidiary of Ocwen Loan Servicing, LLC, including on-site leased workers from Staffmark Staffing, including workers whose unemployment insurance (UI) wages are reported through American Mortgage Servicing, Inc., Coppell, Texas (TA-W-82,568); Homeward Residential, Inc., a subsidiary of Ocwen Loan Servicing, LLC, including on-site leased workers from Staffmark Staffing, including workers whose unemployment insurance (UI) wages are reported through American Mortgage Servicing, Inc., Addison, Texas (TA-W-82,568A), and Homeward Residential, Inc., a subsidiary of Ocwen Loan Servicing, LLC, including on-site leased workers from Staffmark Staffing, including workers whose unemployment insurance (UI) wages are reported through American Mortgage Servicing, Inc., Jacksonville, Florida (TA-W-82,568B), who became totally or partially separated from employment on or after March 15, 2012, through April 24, 2015, and all workers in the group threatened with total or partial separation from employment on date of certification through two years from the date of certification, are eligible to apply for adjustment assistance under Chapter 2 of Title II of the Trade Act of 1974, as amended.

Signed at Washington, DC this 21st day of June 2013.
Del Min Amy Chen,
Certifying Officer, Office of Trade Adjustment Assistance.

[FR Doc. 2013-16162 Filed 7-3-13; 8:45 am]

BILLING CODE 4510-FN-P